DEPARTMENT OF TRANSPORTATION

Federal Railroad Administration

[Docket No. FRA-2020-0027-N-31]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On September 11, 2020, FRA published a notice providing a 60-day period for public comment on the ICR.

DATES: Interested persons are invited to submit comments on or before January 27, 2021.

ADDRESSES: Written comments and recommendations for the proposed ICR should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer, Office of Railroad Safety, Regulatory Analysis Division, Federal Railroad Administration, telephone: (202) 493-0440, email: Hodan.wells@dot.gov.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On September 11, 2020, FRA published a 60-day notice in the Federal Register soliciting comment on the ICR for which it is now seeking OMB approval. See 85 FR 56286. FRA received no comments in response to this notice.

Before OMB decides whether to approve the proposed collection of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Railroad Operating Rules.

OMB Control Number: 2130-0035.

Abstract: The collection of information associated with Title 49 Code of Federal Regulations (CFR) parts 217 and 218, Railroad Operating Rules and Practices, requires railroads to file with FRA copies of their operating rules, timetables, timetable special instructions, and subsequent amendments. The regulations also require railroads to retain copies of these documents at their systems headquarters and make these documents available to FRA upon request.

Through these requirements, FRA learns of operating rules and practices for trains and instructions railroads provide their employees on operating practices.

Type of Request: Extension with change (revised estimates) of a currently approved collection.

Affected Public: Businesses.

Form(s): N/A.

Respondent Universe: 765 railroads.

Frequency of Submission: On occasion.

Reporting Burden:¹

¹ FRA provides a revised PRA table that includes updated burdens associated with §§ 217.11, 218.95, and 218.97. The estimates have been updated after an internal review.

² Note: The current inventory estimates a total burden of 4,791,614 hours while the requesting inventory estimates a total burden of 763,236 hours. There is no change in the method of the collection. However, FRA determined some of the estimates were double counted and/or outdated, while other estimates were not PRA requirements, thus leading to the increased figures in the current inventory, which were decreased accordingly in this notice. Also, totals may not add due to rounding.

³ The dollar equivalent cost is derived from the Surface Transportation Board's Full Year Wage A&B data series using the appropriate employee group hourly wage rate that includes a 75-percent overhead charge. The hourly wage rate used is $77 per hour ($44.27 * 1.75 = $77).

CFR section ² | Respondent universe | Total annual responses | Average time per response | Total annual burden hours | Total cost equivalent ³
217.7(a)—Operating rules; filing and recordkeeping—Filing of code of operating rules, timetables, and timetable special instructions by Class Is, Class IIs, Amtrak, and commuter railroads with FRA | 2 new railroads | 2 documents | 1 hour | 2 | $154
—(b) Amendments to code of operating rules, timetables, and timetable special instructions by Class Is, Class IIs, Amtrak, and commuter railroads with FRA | 53 railroads | 312 revised documents | 20 minutes | 104 | 8,008
—(c) Class III and other railroads—Copy of code of operating rules, timetables, and timetable special instructions at system headquarters | 2 new railroads | 2 documents | 1 hour | 2 | 154
—(c) Class III and other railroads—Amendments to code of operating rules, timetables, and timetable special instructions at system headquarters | 798 railroads | 1,596 copies | 15 minutes | 399 | 30,723
217.9(b)(2)—Program of operational tests and inspections; recordkeeping—Written records documenting qualification of each railroad testing officer | 765 railroads | 4,732 records | 2 minutes | 158 | 12,166
—(c) Written program of operational tests and inspections | 2 new railroads | 2 programs | 10 hours | 20 | 2,300
—(d)(1) Records of operational tests/inspections | 765 railroads | 9,120,000 test records and updates | 5 minutes | 760,000 | 58,520,000
—(d)(2) Railroad copy of current program operational tests/inspections—Amendments | 53 railroads | 159 program revisions | 70 minutes | 186 | 14,322
—(e)(1)(i) Written quarterly review of operational tests/inspections by RRs other than passenger RRs | 7 Class I railroads + Amtrak | 32 reviews | 2 hours | 64 | 4,928
—(e)(1)(ii) 6-month review of operational tests/inspections/naming of officer | 7 Class I railroads | 14 reviews | 2 hours | 28 | 2,156
—(e)(2) 6-month review by passenger railroads designated officers of operational testing and inspection data | 35 Amtrak + passenger railroads | 70 reviews | 2 hours | 140 | 10,780
—(e)(3) Records of periodic reviews | 50 railroads | 116 records | 1 minute | 2 | 154
—(f)-(g) Annual summary of operational tests and inspections | 50 railroads | 50 summary records | 1 hour | 50 | 3,850
—(h)(1)(i) RR amended program of operational tests/inspections | 765 railroads | 6 revised programs | 30 minutes | 3 | 231
—(h)(1)(ii) FRA disapproval of RR program of operational tests/inspections and RR written response in support of program | 765 railroads | 6 supporting documents | 1 hour | 6 | 462
217.11(a)—RR periodic instruction of employees on operating rules—New railroads | 2 new railroads | 2 written programs | 8 hours | 16 | 1,232
217.11(b)—RR copy of program amendments for periodic instruction of employees | 765 railroads | 110 modified written programs | 30 minutes | 55 | 4,235
218.95(a)(5)-(b)—Instruction, training, examination—Employee completed test records | 765 railroads | 85,600 employee records | 1 minute | 1,427 | 109,879
—(c)(1)(i) Amended RR program of instruction, testing, examination | 765 railroads | 5 amended programs | 30 minutes | 3 | 231
218.97(b)(4)—RR copy of good faith challenge procedures | 765 railroads | 4,732 copies to new employees | 6 minutes | 473 | 36,421
218.97(c)(1) and (4)—RR employee good faith challenge of RR directive | 10 workers | 10 good faith challenges | 15 minutes | 3 | 231
—(c)(5) RR resolution of employee good faith challenge | 2 new railroads | 5 responses | 15 minutes | 1 | 77
—(d)(1) RR officer immediate review of unresolved good faith challenge | 2 new railroads | 3 reviews | 30 minutes | 2 | 154
—(d)(2) RR officer explanation to employee that Federal law may protect against employer retaliation for refusal to carry out work if employee refusal is a lawful, good faith act | 2 new railroads | 3 answers | 15 minutes | 1 | 77
—(d)(3) Employee written/electronic protest of employer final decision | 2 new railroads | 3 written protests | 15 minutes | 1 | 77
—(d)(3) Employee copy of protest | 2 new railroads | 3 copies | 1 minute | 0.1 | 8
—(d)(4) Employer further review of good faith challenge after employee written request | 2 new railroads | 2 further reviews | 15 minutes | 0.5 | 39
—(d)(4) RR verification decision to employee in writing | 2 new railroads | 2 decisions | 15 minutes | 0.5 | 39
—(e) Recordkeeping and record retention—Employer's copy of written procedures at division headquarters | 765 railroads | 765 copies | 5 minutes | 64 | 4,928
218.99(a)—Shoving or pushing movement—RR operating rule complying with section's requirements | 2 new railroads | 2 rule modifications | 1 hour | 2 | 154
218.101(a)-(c)—Leaving equipment in the clear—Operating rule that complies with this section | 2 new railroads | 2 rule modifications | 30 minutes | 1 | 77
218.103(a)(1)—Hand-Operated Switches—Operating Rule that Complies with this section | 2 new railroads | 2 rule modifications | 30 minutes | 1 | 77
Total | 765 railroads | 9,348,371 responses | N/A | 763,236 | 58,770,040

Total Estimated Annual Responses: 9,348,371.

Total Estimated Annual Burden: 763,236 hours.

Total Estimated Annual Burden Hour Dollar Cost Equivalent: $58,770,040.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-28472 Filed 12-23-20; 8:45 am]

BILLING CODE 4910-06-P